DEPARTMENT OF VETERANS AFFAIRS

Advisory Committee Charter Renewals

AGENCY: Department of Veterans Affairs.

ACTION: Notice of Advisory Committee Charter renewals.

SUMMARY: In accordance with the provisions of the Federal Advisory Committee ACT (FACA), 5 U.S.C. App. 2, and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
MyVA Advisory Committee | Provides advice on matters affecting the MyVA Initiative and VA's ability to rebuild trust with Veterans and other stakeholders, improve service delivery with a focus on Veteran outcomes, and set the course for longer-term excellence and reform of VA | October 31, 2016.

The Secretary has also renewed the charters for the following statutorily authorized Federal advisory committees for a two-year period, beginning on the dates listed below:

Committee name | Committee description | Charter renewed on
Veterans' Advisory Committee on Education | Authorized by 38 U.S.C. § 3692. Provides advice on the administration of education and training programs for Veterans and Servicepersons, Reservists, and dependents of Veterans under Chapters 30, 32, 35, and 36 of Title 38, and Chapter 1606 of Title 10, United States Code | September 25, 2016.
Advisory Committee on Structural Safety of Department of Veterans Affairs Facilities | Authorized by 38 U.S.C. § 545. Provides advice on structural safety in the construction and remodeling of VA facilities, and to recommend standards for use by VA in the construction and alteration of facilities | December 14, 2016.

FOR FURTHER INFORMATION CONTACT: Jeffrey Moragne, Committee Management Office, Department of Veterans Affairs, Advisory Committee Management Office (00AC), 810 Vermont Avenue NW., Washington, DC 20420; telephone (202) 266-4660; or email at Jeffrey.Moragne@va.gov. To view a copy of a VA Federal advisory committee charter, visit http://www.va.gov/advisory.

Dated: December 16, 2016.
Jelessa M. Burney,
Federal Advisory Committee Management Officer.

[FR Doc. 2016-30698 Filed 12-20-16; 8:45 am]

BILLING CODE P